DEPARTMENT OF THE INTERIOR

Privacy Act of 1974; as Amended; Notice To Amend an Existing System of Records

AGENCY: Office of Inspector General, Interior.

ACTION: Notice of amendment to an existing system of records.

SUMMARY: Pursuant to the provisions of the Privacy Act of 1974, as amended (5 U.S.C. 552a), the Department of the Interior (DOI) is issuing a public notice of its intent to amend the Office of Inspector General (OIG) Investigative Records system of records notice. The amendment includes a consolidated and updated list of routine uses. The amended system of records is captioned “Investigative Records—Interior, Office of Inspector General—2 (OIG-2).” This system of records OIG-2 was first published in the Federal Register on April 11, 1977 (42 FR 19014). The system was last revised on August 18, 1983 (48 FR 37536).

DATES: Comments must be received by November 8, 2011. This system will be effective November 8, 2011.

ADDRESSES: Any person interested in commenting on this amendment may do so by any of the following methods listed below.

Electronic Comments

• Federal eRulemaking Portal: http://www.regulations.gov. Follow the instructions on the Web site for submitting comments.

• E-mail: Privacy@doioig.gov. Please submit Internet comments as an ASCII file and avoid the use of special characters and any form of encryption.

Paper Comments

• Regular U.S. Mail: Sandra Evans, FOIA/Privacy Act Officer, Office of Inspector General, U.S. Department of the Interior, 1849 C Street, NW., Mail Stop—4428, Washington, DC 20240.

• Overnight mail, courier, or hand delivery: Sandra Evans, FOIA/Privacy Act Officer, Office of Inspector General, U.S. Department of the Interior, 1849 C Street, NW., Mail Stop-4428, Washington, DC 20240.

The OIG will post all comments on the OIG Web site (http://www.doioig.gov). Comments will be posted without change, and therefore submissions should only contain information that the commenter wishes to make publicly available.

FOR FURTHER INFORMATION CONTACT: Sandra Evans, FOIA/Privacy Act Officer, Office of Inspector General, U.S. Department of the Interior, 1849 C Street, NW., Mail Stop—4428, Washington, DC 20240, Sandra_Evans@doioig.gov.

SUPPLEMENTARY INFORMATION: The Office of Inspector General—Office of Investigations, and Regional Offices, maintain the above-entitled system of records. The purpose of this system is to store certain investigative case files and other materials created or gathered in the course of an official investigation. Records maintained in the system are sensitive but unclassified. The amendments to the system will be effective as proposed at the end of the comment period (the comment period will end 40 days after the publication of this notice in the Federal Register), unless comments are received which would require a contrary determination. DOI will publish a revised notice if changes are made based upon a review of the comments received.

Dated: September 23, 2011.
Sandra Evans,
FOIA/Privacy Act Officer, Office of Inspector General

System Name:

Investigative Records—Interior, Office of Inspector General—2 (OIG-2).

System Locations:

(1) U.S. Department of the Interior, Office of Inspector General, 1849 C Street, NW., Washington DC 20240; (2) Office of Inspector General, 12030 Sunrise Valley Drive, Reston, VA 20191; (3) Office of Inspector General Regional Offices, Regional sub-offices (a current listing of these offices may be obtained by writing to the System Manager); and (4) Investigative site during the course of an investigation.

Categories Of Individuals Covered By The System:

Current former and prospective employees of the Department of the Interior (“DOI”), complainants, witnesses, confidential and non-confidential informants, contractors, subcontractors, recipients of federal assistance or funds and their contractor/subcontractors and employees, alleged violators of DOI rules and regulations, union officials, individuals investigated and interviewed, persons suspected of violations of administrative, civil and criminal provisions, grantees, sub-grantees, lessees, licensees, and other persons engaged in business with the DOI or having contact with the DOI or geographical areas under its jurisdiction.

Categories Of Records In The System:

Records related to investigations conducted by the OIG, including:

(1) Complaints, requests to investigate, and administrative referrals;

(2) Records of case initiation including the following data fields: case number, title of case, dates, offices/personnel assigned, summary;

(3) Documents, statements, and information of any kind gathered through investigation;

(4) Reports, correspondence, notes and memoranda generated by OIG regarding investigations;

(5) Records on complainants, subjects, victims, witnesses containing the following data fields: name, status as government employee, social security number, birth date, birth place, aliases, group affiliation, employment information, government employment information, government employee type, grade, agency, address, phone number, e-mail address, and photo.

Authority For Maintenance of the System:

Inspector General Act of 1978, 5 U.S.C. App. 3, 1-12, as amended.

Routine Uses of Records Maintained in the System, Including Categories of Users and the Purposes of Such Uses:

The primary use of the records is to facilitate the OIG's various responsibilities under the Inspector General Act of 1978, as amended. The OIG is statutorily directed to conduct and supervise investigations relating to programs and operations of the Department of the Interior (DOI), to promote economy, efficiency, and effectiveness in the administration of such programs and operations, and to prevent and detect fraud, waste, and abuse in such programs and operations. Accordingly, records in this system are used within the DOI and OIG in the course of investigating individuals and entities suspected of misconduct, waste, fraud, and abuse, other illegal or unethical acts and in conducting related criminal prosecutions, civil proceedings, and administrative actions. These records are also used to fulfill reporting requirements, to maintain records related to the OIG's activities, and to prepare and issue reports to Congress, the DOI and its components, the Department of Justice, the public and other entities as appropriate within the mission of the OIG.

Disclosures outside DOI may be made without the consent of the individual to whom the record pertains under the routine uses listed below:

For purposes of these routine uses, references to DOI or the Department shall include OIG.

(1)(a) To any of the following entities or individuals, when the circumstances set forth in subparagraph (b) are met:

(i) The U.S. Department of Justice (DOJ);

(ii) A court or an adjudicative or other administrative body;

(iii) A party to litigation or prosecution or anticipate litigation or prosecution before a court or an adjudicative or other administrative body; or

(iv) Any DOI employee acting in his or her individual capacity if DOI or DOJ has agreed to represent that employee or pay for private representation of the employee;

(b) When:

(i) One of the following is a party to the proceeding or matter or has an interest in the proceeding or matter:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee; or

(E) The United States, or a State, District, Tribe, Territory or other government or entity vested with prosecution authority; and

(ii) OIG deems the disclosure to be:

(A) Relevant and necessary to the proceeding or matter, including settlement discussions; and

(B) Compatible with the purpose for which the records were compiled.

(2) To a congressional office in response to a written inquiry that an individual covered by the system, or the heir of such individual if the covered individual is deceased, has made to the office.

(3) To any criminal, civil, or regulatory law enforcement authority (whether federal, state, territorial, local, tribal or foreign) when a record, either alone or in conjunction with other information, indicates a violation or potential violation of law—criminal, civil, or regulatory in nature, and the disclosure is compatible with the purpose for which the records were compiled.

(4) To an official of another federal agency to provide information needed in the performance of official duties related to reconciling or reconstructing data files or to enable that agency to respond to an inquiry by the individual to whom the record pertains.

(5) To federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. §§ 2904 and 2906.

(7) To state and local governments and tribal organizations to provide information needed in response to court order and/or discovery purposes related to litigation, when the disclosure is compatible with the purpose for which the records were compiled.

(8) To an expert, consultant, or contractor (including employees of the contractor) of DOI, that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media when the disclosure is compatible with the purpose for which the records were compiled.

(13) To a consumer reporting agency if the disclosure requirements of the Debt Collection Act, as outlined at 31 U.S.C. 3711(e)(1), have been met.

(14) To an individual or entity, to the extent necessary in order to seek information relevant to a decision by DOI concerning the hiring, assignment or retention of an individual or other personnel action, the issuance, renewal, or retention or revocation of a security clearance, the execution of a security or suitability investigation, the letting of a contract, or the issuance, retention or revocation of a license, grant, or other benefit.

(15) To an individual or entity, to the extent necessary in order to seek information or assistance relevant to an OIG investigation, audit, or evaluation.

(16) To a foreign government pursuant to an international treaty, convention, or executive agreement entered into by the United States.

(17) To an authorized appeal grievance examiner, formal complaints examiner, equal employment opportunity investigator, arbitrator or other person properly engaged in an investigation or settlement of an administrative grievance, complaint, claim, or appeal filed by an employee, special studies of the civil service and other merit systems, review of Human Resources or component rules and regulations, investigation of alleged or possible prohibited personnel practices, including administrative proceedings involving any individual subject of an OIG or DOI investigation, and such other functions promulgated in 5 U.S.C. 1205-06.

(18) To a grand jury agent pursuant to a federal or state grand jury subpoena or in response to a prosecution request that such record or information is released for the purpose of its introduction to a grand jury.

(19) To the Office of Personnel Management (OPM) concerning information on pay and leave, benefits, retirement deductions, or other information necessary for OPM to carry out its personnel management functions and studies.

(20) To Treasury and to the DOJ, when the information is subject to an ex parte court order permitting the disclosure of return or return information (26 U.S.C. 6103(b)) by the Internal Revenue Service (IRS), or when disclosure is necessary to facilitate obtaining such an order.

(21) To the Federal Labor Relations Authority (FLRA) when requested in connection with investigations of allegations of unfair labor practices or matters before the Federal Service Impasses Panel.

(22) To the Office of Government Ethics (OGE) for any purpose consistent with that office's mission including the compilation of statistical data.

(23) To the public when the Inspector General determines that the disclosure would not reasonably be expected to constitute an unwarranted invasion of personal privacy, and:

(a) The matter under investigation or audit becomes public knowledge; or

(b) Disclosure is necessary to:

(1) Preserve confidence in the integrity of the OIG audit or investigative process: or

(2) Demonstrate the accountability of DOI officers, employees, or individuals covered by this system.

(24) To complainants and/or victims to the extent necessary to provide such persons with information and explanations concerning the progress and/or results of the investigation or case arising from the matters of which they complained and/or of which they were a victim.

(25) To an individual who has been interviewed or contacted by OIG pursuant to an audit, investigation or evaluation, OIG may provide copies of that individual's statements, testimony, or records produced.

(26) To appropriate agencies, entities, and persons when OIG determines that disclosure may prevent or minimize a risk of harm to DOI programs, personnel or property, including but not limited to a risk of loss or misuse of funds granted or paid by the DOI to any other agency, entity or person.

(27) To the Council of the Inspectors General on Integrity and Efficiency (CIGIE), any successor entity, and other Federal agencies and Offices of Inspectors General, as necessary to respond to an authorized audit, investigation or review.

(28) To the Recovery Accountability and Transparency Board as necessary for any matters within the Board's jurisdiction.

POLICIES AND PRACTICES FOR STORING, RETRIEVING, ACCESSING, RETAINING AND DISPOSING OF RECORDS IN THE SYSTEM:

Storage:

Paper records and all other media including but not limited to (photographs, audio recordings, diskettes, and CD's) are stored in file cabinets in a secured area. Electronic records are maintained on a file server that is protected with user account access controls and other appropriate electronic security measures, and is physically located in locked facilities that are secured at all times by alarm systems and video surveillance cameras.

Retrievability:

Records are retrievable by individual's name, case number, or document title.

Safeguards:

Access to paper records is restricted to authorized personnel on a need-to-know basis. During duty hours, paper records are located in file cabinets in OIG space occupied by authorized personnel. During non-duty hours, paper records and other physical media are maintained in locked cabinets located in appropriately secured OIG space. Access to electronic records is restricted to authorized personnel who use them for official purposes. Each person granted access to the system must be individually authorized to use the system. Security of the system and records therein is maintained through the use of passwords and other electronic security measures. Passwords are changed on a cyclical basis. These computer servers are located in locked facilities that are secured at all times by alarm systems and video surveillance cameras. During non-duty hours the alarm system provides immediate notification of any attempted intrusion to OIG Information Technology personnel. All data exchanged between the servers and individual personal computers is encrypted. Backup tapes are stored in a locked and controlled room in a secure, off-site location. Measures have been taken to ensure that the handling of this information meets the requirements of the Department of the Interior's Privacy Act regulations, 43 CFR 2.51. A Privacy Impact Assessment was conducted and recently updated regarding the electronic records within OIG-2. The assessment verified that appropriate controls and safeguards are in place. Safeguards include, but are not limited to, a requirement restricting access to the system to OIG personnel who have a “need to know” and have been granted authority by the System Manager. The records and system security plan is prepared in a way to reduce the impact to the individual's privacy and to manage the system on a “need to know” basis according to the Privacy Act.

All personnel within OIG, including all personnel with access to records in OIG-2, are required to complete Privacy Act, Records Management, and IT Security Awareness training on an annual basis.

Retention And Disposal:

Records relating to persons covered by this system are retained for ten years after the completion of the investigation and/or action based thereon at the U.S. Department of the Interior, Office of Inspector General, 1849 C St., NW., Washington DC 20240. After ten years records are transferred to the National Archives and Records Administration. Subpoena log and subpoenaed records are destroyed or returned when no longer needed for agency use. Records are disposed of under applicable guidelines. See 384 DM 1. The records control schedule and disposal standards may be obtained by writing to the Systems Manager at the address below. The specific records schedule covering the system is found in the United States Department of the Interior, Office of Secretary, Comprehensive Records Disposal Schedule, Subcategory G, Audit and Investigation, Item 2, Investigative Records.

System Manager And Address:

Assistant Inspector General for Investigations, Office of Inspector General, U.S. Department of the Interior, 1849 C St., NW., Mail Stop 4428, Washington, DC 20240.

Record Source Categories:

As an investigative agency focusing on the activities of the DOI, OIG collects information from all relevant sources. These include (1) The DOI, its bureaus and components, and all employees and agents; (2) other federal and non-federal government agencies, and their employees and agents, having business with the DOI; (3) non-government entities, and their employees and agents, having business with the DOI; (4) any entity or individual, including members of the public, who make complaints to OIG regarding activities of the DOI or who have information that is relevant to our investigations.

EXEMPTIONS CLAIMED FOR THE SYSTEM:

Pursuant to 5 U.S.C. 552a(j)(2) the system is exempt from all of the provisions of 5 U.S.C. 552a except subsections (b), (c)(1) and (2), (e)(4)(A) through (F), (e)(6), (7), (9), (10), and (11), and (i) and regulations implementing these provisions. 43 CFR 2.79(a); see also 48 FR 37536-03 (August 18, 1983); 48 FR 37411-01 (August 18, 1983).

Pursuant to 5 U.S.C. 552a(k)(2), the system is exempt from 5 U.S.C. 552a subsections (c)(3), (d), (e)(1), (e)(4)(G), (H), and (I), and (f) and regulations implementing these provisions. 43 CFR 2.79(b).

[FR Doc. 2011-25069 Filed 9-28-11; 8:45 am]

BILLING CODE 4310-10-P